DEPARTMENT OF THE INTERIOR

Bureau of Land Management

[LLES962000 L14400000 BJ0000 18X]

Notice of Filing of Plat Survey; Eastern States

AGENCY: Bureau of Land Management, Interior

ACTION: Notice of Official Filing.

SUMMARY: The plats of survey of the following described lands are scheduled to be officially filed in the Bureau of land Management (BLM), Eastern States Office, Washington, DC, 30 days from the date of this publication. The survey, executed at the request of the Midwest Regional Office of the BIA, is necessary for the management of these lands.

DATES: Unless there are protests of this action, the filing of the plat described in this notice will happen on February 15, 2018.

ADDRESSES: BLM Eastern States, Suite 950, 20 M Street SE, Washington, DC 20003.

FOR FURTHER INFORMATION CONTACT: Dominica VanKoten, Chief Cadastral Surveyor for Eastern States; (202) 912-7756; email: dvankote@blm.gov; or U.S. Postal Service: BLM-ES, 20 M Street SE, Washington, DC 20003. Attn: Cadastral Survey. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: The plat, incorporating the field notes describe the dependent resurvey of a portion of the north boundary, a portion of the subdivisional lines, the east and west center line of section 2; and the survey of the subdivision of section 2, the division of accretion in section 2, a portion of the present day meanders of section 2, an informational traverse of a portion of the present day meanders of section 2, and an informational traverse of the adjusted 1852 connecting traverse line, of Township 48 North, Range 3 West, in the Fourth Principal Meridian in the State of Wisconsin., accepted December 6, 2017.

A person or party who wishes to protest the above survey must file a written notice of protest within 30 calendar days from the date of this publication at the address listed in the ADDRESSES section of this notice. A statement of reasons for the protest may be filed with the notice of protest and must be filed within 30 days after the protest is filed. If a protest against the survey is received prior to the date of official filing, the filing will be stayed pending consideration of the protest. A plat will not be officially filed until the day after all protests have been dismissed or otherwise resolved. Before including your address, phone number, email address, or other personal identifying information in your comment, please be aware that your entire protest, including your personal identifying information may be made publicly available at any time. While you can ask us in your comment to withhold your personal identifying information from public review, we cannot guarantee that we will be able to do so.

A copy of the described plat will be placed in the open files, and available to the public as a matter of information.

Authority: 43 U.S.C. Chap. 3.

Dominica J. VanKoten,
Chief Cadastral Surveyor.

[FR Doc. 2018-00584 Filed 1-12-18; 8:45 am]

BILLING CODE 4310-GJ-P